AGENCY FOR INTERNATIONAL DEVELOPMENT

Notice of Public Information Collections Being Reviewed by the Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: submit comments on or before April 1, 2002.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB No: OMB 0412-0552.

Form No.: N/A.

Title: Financial Status Report or Equivalent.

Type of Review: Renewal of Information Collection.

Purpose

In its appropriations act, Congress always requests country level financial expenditure data in order to determine whether funds appropriated to the Agency are being used for their intended purpose and are not used to support activities that are not in the US National Interest. Generally, this has been fairly straightforward for assistance recipients who work specifically in one country, but harder to capture in the cases where recipients operate at a regional scale. Therefore, for each country where USAID spends money, careful review is necessary in order to be able to certify that funds expended do not go into programs where funding is prohibited, restricted or limited. Financial expenditure data by country is used by the agency to meet several reporting requirements for Congress. Country specific financial expenditure data is also used to determine whether the agency is meeting Congressional ceilings and earmarks. In addition, Congressional notification is required for activities in certain countries (Burma, Cambodia, Colombia, Democratic Republic of Congo, etc), as well as activities covering certain subject matter such as activities promoting country participation in the Kyoto Protocol, use of notwithstanding authority for supporting energy programs aimed at reducing greenhouse gas emissions. In each case, Congress requests to know the amount of taxpayer dollars that is expended by the program or in the specific country. USAID currently requires grant and cooperative agreement recipients who work in multiple countries to provide expenditure reports by country. The purpose of this notice is to extend the class deviation to the statute from the Office of Management and Budget in accordance with 22 CFR 226.4. The information is being collected so that USAID can ensure programs do not fund activities in countries where the United States Congress has prohibited or fund programs where Congress has limited the types of activities that may be funded.

Annual Reporting Burden:

Respondents: 80.

Total annual responses: 320.

Total annual hours requested: 800 hours.

Dated: January 24, 2002.
Joanne Paskar,
Chief, Information and Records Division, Office of Administrative Services, Bureau for Management.

[FR Doc. 02-2207 Filed 1-29-02; 8:45 am]

BILLING CODE 6116-01-M